POSTAL SERVICE

International Product Change—Inbound PRIME Tracked Service Agreement

AGENCY: Postal Service™.

ACTION: Notice.

SUMMARY: The Postal Service gives notice of filing a request with the Postal Regulatory Commission to add Inbound Market Dominant PRIME Tracked Service Agreement to the Market Dominant Product List.

DATES: Effective date: January 3, 2017.

FOR FURTHER INFORMATION CONTACT: Christopher C. Meyerson, (202) 268-7820.

SUPPLEMENTARY INFORMATION: The United States Postal Service® hereby gives notice that, pursuant to 39 U.S.C. 3642, on December 23, 2016, it filed with the Postal Regulatory Commission a Request of United States Postal Service to add Inbound Market Dominant PRIME Tracked Service Agreement to the Market Dominant Product List. Documents are available at www.prc.gov, Docket Nos. MC2017-71 and R2017-3.

Stanley F. Mires,
Attorney, Federal Compliance.

[FR Doc. 2016-31767 Filed 12-30-16; 8:45 am]

BILLING CODE 7710-12-P